POSTAL SERVICE

39 CFR Part 111

Domestic Competitive Products Pricing and Mailing Standards Changes

AGENCY: Postal Service™.

ACTION: Final rule.

SUMMARY: The Postal Service is amending Mailing Standards of the United States Postal Service, Domestic Mail Manual (DMM®), to reflect changes to prices and mailing standards for competitive products.

DATES: Effective January 19, 2025.

FOR FURTHER INFORMATION CONTACT: Steven Jarboe at (202) 268-7690, Catherine Knox (202) 268-5636, or Garry Rodriguez at (202) 268-7281.

SUPPLEMENTARY INFORMATION: This final rule describes new prices and product features for competitive products, by class of mail, established by the Governors of the United States Postal Service®. New prices are available under Docket Number CP2025-1 on the Postal Regulatory Commission PRC website at http://www.prc.gov, and on the Postal Explorer® website at http://pe.usps.com.

The Postal Service will revise Mailing Standards of the United States Postal Service, Domestic Mail Manual (DMM), to reflect changes to certain prices and mailing standards for the following competitive products:

• Priority Mail Express®.

• Priority Mail®.

• USPS Ground Advantage®.

• Parcel Select®.

• Extra Services.

• Return Services.

• Mailer Services.

• Recipient Services.

• Other.

Competitive product prices and changes are identified by product as follows:

Priority Mail Express

Prices

Overall, Priority Mail Express prices will increase 3.2 percent. Priority Mail Express will continue to offer zoned and Flat Rate, Retail and Commercial pricing.

Retail prices will increase an average of 3.2 percent. The Flat Rate Envelope price will increase to $31.40, the Legal Flat Rate Envelope will increase to $31.65, and the Padded Flat Rate Envelope will increase to $32.25.

Commercial prices will increase an average of 3.2 percent.

Priority Mail

Prices

Overall, Priority Mail prices will increase 3.2 percent. Priority Mail will continue to offer zoned and Flat Rate, Retail and Commercial pricing.

Retail prices will increase an average of 3.2 percent. The Flat Rate Envelope price will increase to $10.10, the Legal Flat Rate Envelope will increase to $10.40, and the Padded Flat Rate Envelope will increase to $10.85. The Small Flat Rate Box price will increase to $10.65, and the Medium Flat Rate Boxes will increase to $19.15. The Large Flat Rate Box will increase to $26.30 and the APO/FPO/DPO Large Flat Rate Box will increase to $25.05.

Commercial prices will increase an average of 3.2 percent.

USPS Ground Advantage

Prices

Overall, USPS Ground Advantage prices will increase 3.9 percent.

USPS Ground Advantage—Retail prices will increase 4.9 percent.

USPS Ground Advantage—Commercial prices will increase 3.2 percent.

Parcel Select

Prices

The prices for Parcel Select Destination Entry will increase an average of 9.2 percent.

The prices for USPS Connect® Local will increase 5.4 percent.

Extra Services

Adult Signature Service

Adult Signature Required and Adult Signature Restricted Delivery service prices are decreasing 10.2 and 10.4 percent respectively. The price for Adult Signature Required will decrease to $8.40 and Adult Signature Restricted Delivery will decrease to $8.65.

Return Services

USPS Returns Service

There are no structural changes to USPS Returns Service.

Mailer Services

Pickup on Demand Service

The Pickup on Demand® service fee will remain the same.

USPS Tracking Plus Service

The USPS Tracking Plus® service prices will increase on average between 11.1 and 152.5 percent.

USPS Label Delivery Service

The USPS Label Delivery Service™ prices will increase 24.0 percent to $1.55.

Recipient Services

Post Office Box Service

The competitive Post Office Box™ service prices will increase an average of 5.7 percent within the updated price ranges.

Premium Forwarding Service

Premium Forwarding Service® (PFS®) prices will increase between 2.5 and 6.1 percent depending on the specific price element. The enrollment fee paid at the retail counter for PFS-Residential will increase to $26.85 and the PFS-Residential, PFS-Commercial, and PFS-Local enrollment fee paid online will increase to $24.70 per application. The price of the weekly shipment charge for PFS-Residential and per container charge for PFS-Local will increase to $27.80.

USPS Package Intercept

The USPS Package Intercept® fee will increase 4.9 percent to $18.35.

Other

Address Enhancement Service

Address Enhancement Service competitive product prices will increase between 8.4 and 9.1 percent.

IMpb Noncompliance Fee Renamed

To encompass all the compliance qualities included under the current IMpb Noncompliance Fee, the Postal Service is renaming the IMpb Noncompliance Fee the Package Quality Noncompliance Fee.

Intelligent Mail Matrix Barcode

The Postal Service is requiring mailers to add a supplemental GS1-DataMatrix (2D) Intelligent Mail matrix barcode (IMmb) to domestic shipping labels to improve package visibility. The placement of the IMmb will be in the address block to the left of the delivery address. Optionally, a mailer may place a second IMmb in the lower right corner of the shipping label. The Postal Service recommends using the second IMmb on all labels. The addition of the IMmb barcode will provide the Postal Service with a greater opportunity for the package to be scanned providing customers with better visibility of their packages.

The Postal Service will also update Publication 52, Hazardous, Restricted, and Perishable, Matter, for consistency in barcode application.

Live Animal and Perishable Handling Fee

The Postal Service is implementing a Live Animal and Perishable Handling fee. This fee will be assessed on all live animals and perishables (e.g. fruit, meat), entered at retail and commercial Priority Mail Express, Priority Mail, and USPS Ground Advantage prices. The Live Animal and Perishable Handling fee is nonrefundable once the piece is entered in the network.

The Live Animal and Perishable Handling fee is in addition to the current Live Animal Transportation fee provided in the Notice 123—Price List, when applicable.

The Postal Service will also update Publication 52, Hazardous, Restricted, and Perishable, Matter, to provide detailed information on the fee requirement.

Hazardous Materials Shipping Label Markings

The Postal Service is revising the current requirement to include the hazardous materials icon (“H”) in lieu of the service icon on a shipping address label when mailing eligible hazardous materials. Items containing mailable hazardous materials addressed to an APO/FPO/DPO, the USPS territories and possessions, and the Freely Associated States, are excluded from the requirement to include the hazardous materials icon in lieu of the service icon on a shipping address label.

Overweight and Oversize Item Fee

The Postal Service is increasing the overweight and oversize item fee to $200.00, to continue to deter nonmailable volumes from being entered in the network.

Resources

The Postal Service provides additional resources to assist customers with this price change for competitive products. These tools include price lists, downloadable price files, and Federal Register Notices, which may be found on the Postal Explorer® website at http://pe.usps.com.

The Postal Service adopts the described changes to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations as follows (see 39 CFR part 111.1):

PART 111—GENERAL INFORMATION ON POSTAL SERVICE

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise Mailing Standards of the United States Postal Service, Domestic Mail Manual (DMM) as follows:

Mailing Standards of the United States Postal Service, Domestic Mail Manual (DMM)

* * * * *

100 Retail Mail Letters, Cards, Flats, and Parcels

* * * * *

110 Retail Mail Priority Mail Express

113 Prices and Eligibility

1.0 Prices and Fees

* * * * *

[Add new 1.7 to read as follows:]

1.7 Live Animal and Perishable Handling Fee

Priority Mail Express pieces containing live animals or perishables (e.g. fruit, meat) are subject to the nonrefundable Live Animal and Perishable Handling fee (see Notice 123—Price List). This fee is in addition to the Live Animal Transportation fee provided in the Notice 123—Price List, when applicable. For additional information on the Live Animal and Perishable Handling fee see Publication 52, Hazardous, Restricted, and Perishable, Mail, (526).

* * * * *

115 Mail Preparation

* * * * *

2.0 Priority Mail Express 1-Day and 2-Day

2.1 Mailing Label

Priority Mail Express 1-Day and 2-Day items must be labeled as follows:

* * * * *

[Revise the second sentence in item c to read as follows:]

c. * * * The Intelligent Mail package barcode (IMpb) and the Intelligent Mail matrix barcode (IMmb) on the shipping label must have the appropriate service-type code and banner text above the IMpb barcode used for cremated remains. * * *

* * * * *

120 Retail Mail Priority Mail

123 Prices and Eligibility

1.0 Prices and Fees

* * * * *

[Add new 1.7 to read as follows:]

1.7 Live Animal and Perishable Handling Fee

Priority Mail pieces containing live animals or perishables (e.g. fruit, meat) are subject to the nonrefundable Live Animal and Perishable Handling fee (see Notice 123—Price List). This fee is in addition to the Live Animal Transportation fee provided in the Notice 123—Price List, when applicable. For additional information on the Live Animal and Perishable Handling fee see Publication 52, Hazardous, Restricted, and Perishable, Mail, (526).

* * * * *

130 Retail Mail First-Class Mail and USPS Ground Advantage—Retail

133 Prices and Eligibility

1.0 Prices and Fees

* * * * *

[Add new 1.9 to read as follows:]

1.9 Live Animal and Perishable Handling Fee

USPS Ground advantage—Retail pieces containing live animals or perishables (e.g., fruit, meat) are subject to the nonrefundable Live Animal and Perishable Handling fee (see Notice 123—Price List). This fee is in addition to the Live Animal Transportation fee provided in the Notice 123—Price List, when applicable. For additional information on the Live Animal and Perishable Handling fee see Publication 52, Hazardous, Restricted, and Perishable, Mail, (526).

* * * * *

200 Commercial Letters, Cards, Flats, and Parcels

* * * * *

202 Elements on the Face of a Mailpiece

* * * * *

3.0 Placement and Content of Mail Markings

* * * * *

3.9 Shipping Address Label Markings

3.9.1 General

[Revise the last sentence of 3.9.1 to read as follows:]

* * * Failure to comply may subject the piece to the Package Quality Noncompliance Fee.

3.9.2 Hazardous Materials

[Revise the text of 3.9.2 to read as follows:]

When a shipping address label is used on items containing mailable hazardous materials, except for items addressed to an APO/FPO/DPO, the USPS territories and possessions, and the Freely Associated States, it must include the hazardous materials icon in lieu of the service icon as provided in the Parcel Labeling Guide.

* * * * *

6.0 Barcode Placement for Parcels

* * * * *

[Delete 6.2 and 6.3 and add new 6.2 to read as follows:]

6.2 Intelligent Mail Matrix Barcode Location

In addition to the placement of the IMpb and GS1-128 Routing Barcodes locations provided in 6.1, the Intelligent Mail matrix barcode (IMmb) must be placed in the address block to the left of the delivery address. Optionally, a mailer may place a second IMmb in the lower right corner of the shipping label.

* * * * *

204 Barcode Standards

* * * * *

2.0 Standards for Package and Extra Service Barcodes

[Revise 2.1 to read as follows:]

2.1 Barcodes

2.1.1 Definition

The definition of an Intelligent Mail package barcode (IMpb) and an Intelligent Mail matrix barcode (IMmb) are as follows:

a. IMpb—An IMpb is the USPS-developed barcode that can be read by automated parcel processing equipment and scanning devices and consists of a data string that generally follows the GS1-128 specification. These barcodes include a variable length format that is determined by the elements selected by the mailer, and supplies tracking and routing data for packages and extra service applications. Intelligent Mail package barcodes must be used on all commercial packages, and on other mailpieces of customers requesting extra services.

b. IMmb—An IMmb is supplemental GS1-DataMatrix (2D) barcode to improve package visibility. The IMmb contains the same data as the IMpb barcode using a space-efficient barcode symbology.

2.1.2 Specification Resources

Detailed Specifications on an IMpb and IMmb can be found on PostalPro at https://postalpro.usps.com as follows:

a. Publication 199, Intelligent Mail Package Barcode (IMpb) Implementation Guide for Confirmation Services and Electronic Payment Systems.

b. Parcel Labeling Guide.

c. Intelligent Mail Package Barcode Technical Specifications.

d. Intelligent Mail Matrix Barcode Technical Specifications.

2.1.3 Barcode Location

See 202.6.1 for barcode location standards.

2.1.4 Quality Assurance

Mailers must perform routine inspections and testing of labels and barcodes to ensure quality.

2.1.5 Electronic File

All mailers generating an IMpb and IMmb must transmit piece-level information to the USPS in an approved electronic file format (except for mailers generating barcodes for use on return services products, such as uninsured USPS Returns service packages).

2.1.6 Compliance Quality Thresholds

All mailers who enter commercial parcels must meet the established thresholds for Compliance Quality outlined in Exhibit 2.1.6 to avoid payment of the Package Quality Noncompliance Fee. Failure to meet any compliance quality threshold in Exhibit 2.1.6 will result in the assessment of the Package Quality Noncompliance Fee.

Exhibit 2.1.6 Compliance Quality Thresholds

Note: See Publication 199 for a list of validations for each Compliance Category (AQ, MQ, BQ).

Compliance categories | Compliance codes | Compliance thresholds
Address Quality: Checks for a timely address that validates to a unique 11-Digit DPV or passes the critical validation criteria in Pub 199 | AQ | 90
Manifest Quality (Shipping Services file): Checks for a timely manifest file that passes the critical validation criteria in Pub 199 | MQ | 94
Barcode Quality: Checks the barcode in the manifest that passes the critical validation criteria in Pub 199 | BQ | 98

2.1.7 Alternate Approval

Labels not meeting IMpb specifications or other label element standards, but still able to demonstrate acceptable functionality within USPS processes, may be allowed using an alternative approval process authorized by the vice president, Applied Engineering, (See 608.8.1 for contact information.).

* * * * *

210 Commercial Mail Priority Mail Express

213 Prices and Eligibility

1.0 Prices and Fees

* * * * *

1.7 Unmanifested Fee

[Revise the text of 1.7 to read as follows:]

Eligible Priority Mail Express pieces omitted from the manifest are subject to the unmanifested fee (see Notice 123—Price List), unless the piece is subject to the Package Quality Noncompliance Fee as specified in 3.2.

* * * * *

[Add new 1.10 to read as follows:]

1.10 Live Animal and Perishable Handling Fee

Priority Mail Express pieces containing live animals or perishables (e.g. fruit, meat) are subject to the nonrefundable Live Animal and Perishable Handling fee (see Notice 123—Price List). This fee is in addition to the Live Animal Transportation fee provided in the Notice 123—Price List, when applicable. For additional information on the Live Animal and Perishable Handling fee see Publication 52, Hazardous, Restricted, and Perishable, Mail, (526).

* * * * *

3.0 Basic Eligibility Standards for Priority Mail Express

* * * * *

[Revise the heading of 3.2 to read as follows:]

3.2 Barcode Standards

[Move the text from 3.2 under new heading 3.2.1 to read as follows:]

3.2.1 IMpb Standards

[Revise the renumbered text of 3.2.1 by deleting the second and last sentence.]

All Priority Mail Express pieces (outbound and returns) must bear an Intelligent Mail package barcode (IMpb) prepared under 204.2.0.

[Add new 3.2.2 and 3.2.3 to read as follows:]

3.2.2 IMmb Standards

In addition to the IMpb under 3.2.1, all Priority Mail Express pieces (outbound and returns) must bear an Intelligent Mail matrix barcode (IMmb) prepared under 204.2.0.

3.2.3 Package Quality Noncompliance Fee

Unless otherwise excepted, mailers of mailpieces not meeting the requirements for use of a unique IMpb, and IMmb as outlined in section 204.2.1.8 and Publication 199, Intelligent Mail Package Barcode (IMpb) Implementation Guide for: Confirmation Services and Electronic Payment Systems, will be assessed the Package Quality Noncompliance Fee (see Notice 123-Price List). For details see PostalPro at https://postalpro.usps.com.

* * * * *

215 Mail Preparation

* * * * *

2.0 Priority Mail Express 1-Day and 2-Day

2.1 Mailing Label

Priority Mail Express 1-Day and 2-Day items must be labeled as follows:

* * * * *

[Revise the second sentence in item c to read as follows:]

c. * * * The Intelligent Mail package barcode (IMpb) and the Intelligent Mail matrix barcode (IMmb) on the shipping label must have the appropriate service-type code and banner text above the IMpb barcode used for cremated remains. * * *

* * * * *

220 Commercial Mail Priority Mail

223 Prices and Eligibility

1.0 Prices and Fees

* * * * *

1.9 Unmanifested Fee

[Revise the text of 1.9 to read as follows:]

Eligible Priority Mail pieces omitted from the manifest are subject to the unmanifested piece fee (see Notice 123—Price List), unless the piece is subject to the Package Quality Noncompliance Fee as specified in 3.2.

* * * * *

[Add new 1.12 to read as follows:]

1.12 Live Animal and Perishable Handling Fee

Priority Mail pieces containing live animals or perishables (e.g., fruit, meat) are subject to the nonrefundable Live Animal and Perishable Handling fee (see Notice 123—Price List). This fee is in addition to the Live Animal Transportation fee provided in the Notice 123—Price List, when applicable. For additional information on the Live Animal and Perishable Handling fee see Publication 52, Hazardous, Restricted, and Perishable, Mail, (526).

* * * * *

3.0 Basic Eligibility Standards for Priority Mail

* * * * *

[Revise the heading of 3.2 to read as follows:]

3.2 Barcode Standards

[Move the text from 3.2 under new heading 3.2.1 to read as follows:]

3.2.1 IMpb Standards

[Revise the renumbered text of 3.2.1 by deleting the second and last sentence.]

Unless the mailer is authorized to use a unique IMb on Priority Mail letters and flats prepared in high-speed environments, all Priority Mail pieces (outbound and returns) must bear an Intelligent Mail package barcode prepared under 204.2.0. To obtain information on how to acquire an authorization to use an IMb on Priority Mail letters and flats, mailers can contact USPS Shipping Information Systems at IMPB@usps.gov.

[Add new 3.2.2 and 3.2.3 to read as follows:]

3.2.2 IMmb Standards

In addition to the IMpb under 3.2.1, all Priority Mail pieces (outbound and returns) must bear an Intelligent Mail matrix barcode (IMmb) prepared under 204.2.0.

3.2.3 Package Quality Noncompliance Fee

Unless otherwise excepted, mailers of mailpieces not meeting the requirements for use of a unique IMpb and IMmb, as outlined in section 204.2.1.8 and Publication 199, Intelligent Mail Package Barcode (IMpb) Implementation Guide for: Confirmation Services and Electronic Payment Systems, will be assessed the Package Quality Noncompliance Fee (see Notice 123—Price List). For details see PostalPro at https://postalpro.usps.com.

* * * * *

240 Commercial Mail USPS Marketing Mail

243 Prices and Eligibility

* * * * *

3.0 Basic Eligibility Standards for USPS Marketing Mail

* * * * *

3.4 IMpb Standards

All USPS Marketing Mail parcels must bear an Intelligent Mail package barcode (IMpb) and an Intelligent Mail matrix barcode (IMmb) as outlined in section 204.2.0 and Publication 199, Intelligent Mail Package Barcode (IMpb) Implementation Guide for: Confirmation Services and Electronic Payment Systems. For details see PostalPro at https://postalpro.usps.com.

* * * * *

250 Commercial Mail Parcel Select

253 Prices and Eligibility

1.0 Prices and Fees

* * * * *

1.4 Unmanifested Fee

[Revise the text of 1.4 to read as follows:]

Eligible Parcel Select pieces omitted from the manifest are subject to the unmanifested fee (see Notice 123—Price List), unless the piece is subject to the Package Quality Noncompliance Fee specified in 3.3.

* * * * *

3.0 Basic Eligibility Standards for Parcel Select Parcels

* * * * *

[Revise the heading of 3.3 to read as follows:]

3.3 Barcode Standards

[Move the text from 3.3 under new heading 3.3.1 to read as follows:]

3.3.1 IMpb Standards

[Revise the renumbered text of 3.3.1 by deleting the second and last sentence.]

All Parcel Select mailpieces must bear an Intelligent Mail package barcode (IMpb) prepared under 204.2.0.

[Add new 3.3.2 and 3.3.3 to read as follows:]

3.3.2 IMmb Standards

In addition to the IMpb under 3.3.1, all Parcel Select pieces (outbound and returns) must bear an Intelligent Mail matrix barcode (IMmb) prepared under 204.2.0.

3.3.3 Package Quality Noncompliance Fee

Unless otherwise excepted, mailers of mailpieces not meeting the requirements for use of a unique IMpb and IMmb, as outlined in section 204.2.1.8 and Publication 199, Intelligent Mail Package Barcode (IMpb) Implementation Guide for: Confirmation Services and Electronic Payment Systems, will be assessed the Package Quality Noncompliance Fee (see Notice 123-Price List). For details see PostalPro at https://postalpro.usps.com.

* * * * *

260 Commercial Mail Bound Printed Matter

263 Prices and Eligibility

* * * * *

3.0 Basic Eligibility Standards for Bound Printed Matter

* * * * *

[Revise the heading and text of 3.5 to read as follows:]

3.5 Barcode Standards

Presorted priced BPM parcels must bear an Intelligent Mail package barcode (IMpb) and an Intelligent Mail matrix barcode (IMmb) as outlined in section 204.2.0 and Publication 199, Intelligent Mail Package Barcode (IMpb) Implementation Guide for: Confirmation Services and Electronic Payment Systems. For details see PostalPro at https://postalpro.usps.com.

* * * * *

270 Commercial Mail Media Mail and Library Mail

273 Prices and Eligibility

* * * * *

5.0 Basic Eligibility Standards for Media Mail and Library Mail

* * * * *

[Revise the heading and text of 5.5 to read as follows:]

5.5 Barcode Standards

All Media Mail and Library Mail parcels must bear an Intelligent Mail package barcode (IMpb) and an Intelligent Mail matrix barcode (IMmb) as outlined in section 204.2.0 and Publication 199, Intelligent Mail Package Barcode (IMpb) Implementation Guide for: Confirmation Services and Electronic Payment Systems. For details see PostalPro at https://postalpro.usps.com.

* * * * *

280 Commercial Mail USPS Ground Advantage—Commercial

283 Prices and Eligibility

1.0 Prices and Fees

* * * * *

1.6 Unmanifested Fee

[Revise the text of 1.6 to read as follows:]

Eligible USPS Ground Advantage—Commercial pieces omitted from the manifest are subject to the unmanifested fee (see Notice 123-Price List), unless the piece is subject to the Package Quality Noncompliance Fee as specified in 3.4.

* * * * *

[Add new 1.9 to read as follows:]

1.9 Live Animal and Perishable Handling Fee

USPS Ground advantage—Commercial pieces containing live animals or perishables (e.g., fruit, meat) are subject to the nonrefundable Live Animal and Perishable Handling fee (see Notice 123—Price List). This fee is in addition to the Live Animal Transportation fee provided in the Notice 123—Price List, when applicable. For additional information on the Live Animal and Perishable Handling fee see Publication 52, Hazardous, Restricted, and Perishable, Mail, (526).

* * * * *

3.0 Basic Eligibility Standards for USPS Ground Advantage—Commercial

* * * * *

[Revise the heading of 3.4 to read as follows:]

3.4 Barcode Standards

[Move the text from 3.4 under new heading 3.4.1 to read as follows:]

3.4.1 IMpb Standards

[Revise the renumbered text of 3.4.1 by deleting the second and last sentence.]

All USPS Ground Advantage—Commercial parcels (outbound and returns) must bear an Intelligent Mail package barcode (IMpb) prepared under 204.2.0.

[Add new 3.4.2 and 3.4.3 to read as follows:]

3.4.2 IMmb Standards

In addition to the IMpb under 3.4.1, all USPS Ground Advantage pieces (outbound and returns) must bear an Intelligent Mail matrix barcode (IMmb) prepared under 204.2.0.

3.4.3 Package Quality Noncompliance Fee

Unless otherwise excepted, mailers of mailpieces not meeting the requirements for use of unique Intelligent Mail package barcodes or extra services barcodes, as outlined in section 204.2.1.8 and Publication 199, Intelligent Mail Package Barcode (IMpb) Implementation Guide for: Confirmation Services and Electronic Payment Systems, will be assessed the Package Quality Noncompliance Fee (see Notice 123—Price List). For details see PostalPro at https://postalpro.usps.com.

* * * * *

500 Additional Mailing Services

503 Extra Services

1.0 Basic Standards for All Extra Services

* * * * *

1.7 Forms and Labels

* * * * *

1.7.2 Privately Printed Forms or Labels

[Revise the first and fourth sentence of 1.7.2 to read as follows:]

Except for Certificate of Mailing service using privately printed forms (i.e., facsimiles) as provided under 5.0, if authorized, a mailer may use privately printed extra service forms and labels for domestic mail only, if the forms and labels are nearly identical in design elements and color to the USPS form, with an Intelligent Mail package barcode (IMpb) and human-readable numbers that meet USPS specifications, and an Intelligent Mail matrix barcode (IMmb), in 204.2.0.* * * * * * Mailers generating shipping labels bearing an IMpb and IMmb must also affix the appropriate colored non-barcoded color-coded label for Registered Mail (under 2.1.2) or Certified Mail (under 3.2.1).* * *

[Revise the heading and text of 1.7.3 to read as follows:]

1.7.3 Barcodes

Items for which extra services are added must bear a correct Intelligent Mail package barcode (IMpb) and Intelligent Mail matrix barcode (IMmb).

* * * * *

1.7.5 Legacy Extra-Service Forms

[Revise the last sentence in the introductory text of 1.7.5 to read as follows:]

* * * Mailers using noncompliant versions of the following extra-service forms will be subject to the Package Quality Noncompliance Fee (see Notice 123—Price List):

* * * * *

2.0 Registered Mail

2.1 Basic Standards

* * * * *

2.1.2 Label 200

[Revise the first sentence of 2.1.2 to read as follows:]

Registered Mail must bear the barcoded red Label 200 (see forms at https://pe.usps.com/), or a non-barcoded red Label 200-N when a mailer-generated shipping label bearing an IMpb and IMmb under 204.2.0 is also affixed on the same mailpiece.* * *

* * * * *

3.0 Certified Mail Services

* * * * *

3.2 Mailing

3.2.1 PS Form 3800

[Revise the first sentence in the introductory text of 3.2.1 to read as follows:]

Certified Mail must bear the barcoded green label part of the Form 3800 (see forms at https://pe.usps.com/), or a non-barcoded green Label 3800-N when a mailer-generated shipping label bearing an IMpb and IMmb, under 204.2.0, is also affixed on the same mailpiece.* * *

* * * * *

4.0 Insured Mail

* * * * *

4.2 Insurance Coverage—Priority Mail, USPS Ground Advantage—Retail, and USPS Ground Advantage—Commercial

Priority Mail pieces (including Priority Mail Return service), USPS Ground Advantage—Retail, and USPS Ground Advantage—Commercial pieces (including USPS Ground Advantage Return service) are insured against loss, damage, or missing contents, for no more than $100.00 in coverage, subject to the following:

[Revise the text of item a to read as follows:]

a. Insurance coverage is provided against loss, damage, or missing contents and is limited to a maximum liability of $100.00 when the pieces bear an Intelligent Mail package barcode (IMpb) and an Intelligent Mail matrix barcode (IMmb) or USPS retail tracking barcode (see 4.3.4) and the mailer pays retail or commercial prices.

* * * * *

4.3 Basic Standards

* * * * *

4.3.4 Markings and Forms

The treatment of pieces is determined by the insurance amount as described in 4.3.1c and under the following conditions:

[Revise the text of item a to read as follows:]

a. Retail Systems Software (RSS) sites—A label and a receipt will be provided at the retail counter. The label printed at the retail counter will include postage and an Intelligent Mail package barcode (IMpb) and an Intelligent Mail matrix barcode (IMmb) that contains the appropriate service type code for the product and extra service purchased.

* * * * *

7.0 USPS Tracking

* * * * *

7.2 Labels

7.2.1 Types of Labels

* * * Mailers not printing their own privately printed labels must use one of the label options as follows:

* * * * *

[Revise the second sentence of item b to read as follows:]

b. * * * The labels are populated with the product service type code and customer's Mailer Identification (MID) number in the Intelligent Mail package barcode (IMpb) and Intelligent Mail matrix barcode (IMmb).

* * * * *

8.0 USPS Signature Services

8.1 Basic Standards

* * * * *

8.1.2 Standards for Signature Confirmation

For Signature Confirmation with Media Mail, Library Mail, Bound Printed Matter, or Parcel Select pieces meeting the physical standards under 201.7.0, the parcel must meet these additional requirements:

* * * * *

d. Mailers must use one of the following labels:

[Revise the second sentence of item d1 to read as follows:]

1. Retail Systems Software (RSS) sites—* * * The label printed at the retail counter will include postage and an Intelligent Mail package barcode (IMpb) and an Intelligent Mail matrix barcode (IMmb) that contains the appropriate service type code for the product and extra service purchased.

* * * * *

505 Return Services

* * * * *

3.0 USPS Returns Service

3.1 Basic Standards

* * * * *

3.1.3 Postage and Prices

Postage and prices are subject to the following:

[Revise the third and last sentence of item a to read as follows:]

a. * * * USPS Returns service packages are charged postage and fees based on the STC embedded in the IMpb and IMmb and as provided under 3.1.3c. If all or part of the barcodes are unreadable, or the package is unable to be priced based on the data collected, postage will be determined by the Postal Service based on historical data, or default data determined at time of enrollment.

* * * * *

c. The account holder or mailer may obtain extra and additional services as follows:

[Revise the third sentence of item c1 to read as follows:]

1. * * * Additional insurance for Priority Mail Return service and USPS Ground Advantage Return service is available to the account holder for a fee on packages that have the applicable STC embedded into the IMpb and IMmb on the label, and for which the account holder has provided electronic data that supports the value of the merchandise (see 503.4.1a).* * *

* * * * *

3.1.4 Labels

Distribution and preparation of labels are subject to the following:

* * * * *

b. Label Preparation. The following provisions apply:

* * * * *

[Revise the text of item b2 to read as follows:]

2. The label must include an IMpb and IMmb (see 204.2.0), accommodate all required information, be legible, and be prepared in accordance with the standards in Publication 199, Intelligent Mail Package Barcode (IMpb) Implementation Guide for Confirmation Services and Electronic Payment Systems, available on the PostalPro website at https://postalpro.usps.com.

* * * * *

[Revise the text of item b4 to read as follows:]

4. Except for USPS Returns service labels generated by the USPS API or MRA, all returns labels must have a properly constructed IMpb (C01, C05, N02, or N05, as applicable) and IMmb approved by the NCSC.

* * * * *

3.1.5 Noncompliant Labels

[Revise the last sentence of 3.1.5 to read as follows:]

* * * When noncompliant labels, including discontinued labels, are affixed to USPS Returns service packages, the permit holder may be assessed the Package Quality Noncompliance Fee (see Notice 123—Price List), or the appropriate USPS Returns class of mail retail price (i.e., permit holders of Priority Mail Express Returns service packages will be assessed the retail Priority Mail Express price) calculated from the package's initial entry point (first physical scan) in the USPS network to its delivery address.

3.1.6 Enter and Deposit

The following standards apply:

* * * * *

[Revise the last sentence of item b to read as follows:]

b * * * Any such packages deposited in collection boxes may be returned to the sender for the extra service to be purchased appropriately, or it will be processed and the sender charged postage and fees based on the STC embedded in the IMpb and IMmb on the label and as provided under 3.1.4c.

* * * * *

5.0 Bulk Parcel Return Service

* * * * *

5.4 Optional BPRS Label

[Revise the last sentence of 5.4 to read as follows:]

* * * The label is prepared at the mailer's expense and must meet all format standards in the Parcel Labeling Guide available on PostalPro at https://postalpro.usps.com, including an IMpb and IMmb meeting the standards in 204.2.0.

* * * * *

507 Mailer Services

* * * * *

5.0 Package Intercept

* * * * *

5.3 Adding Extra Services

[Revise the third sentence in the introductory text of 5.3 to read as follows:]

* * * The relabeled item will be assigned a new barcode applicable to the extra service purchased.* * *

* * * * *

600 Basic Standards for All Mailing Services

601 Mailability

1.0 General Standards

* * * * *

1.2 Overweight Items or Oversize Items

* * * * *

1.2.3 Fee

[Revise the text of 1.2.3 to read as follows:]

Except for an overweight or oversize item discovered and picked up at the same facility where it was entered, the overweight/oversize item fee of $200 will be assessed and must be paid before release of the item. The $200 overweight or oversize item fee may be paid by any authorized retail payment method or through PostalOne!.

* * * * *

604 Postage Payment Methods and Refunds

* * * * *

9.0 Exchanges and Refunds

* * * * *

9.2 Postage and Fee Refunds

* * * * *

9.2.4 Postage and Fee Refunds Not Available

Refunds are not made for the following:

* * * * *

[Revise 9.2.4 by adding an item j to read as follows:]

j. For the Package Intercept per-piece fee once the USPS successfully intercepts the mailpiece (507.5.2) or the Live Animal and Perishable Handling fee once the piece is entered in the network.

* * * * *

609 Filing Indemnity Claims for Loss or Damage

1.0 General Filing Instructions

* * * * *

1.2.2 Eligibilty

Eligibility for mailers to submit claims using the Bulk Indemnity Claims feature is based on the following:

* * * * *

[Revise the text of item b to read as follows:]

b. IMpb and IMmb compliance history.

* * * * *

1.3 Who May File

A claim may be filed by:

* * * * *

[Revise the text of item c to read as follows:]

c. Only the account holder, for USPS Returns packages that are insured as identified by the account holder's mailer identification (MID) and the applicable STC for insurance imbedded into the IMpb and IMmb on the label, and for which the account holder has provided electronic data that supports the value of the merchandise being returned (see 503.4.3.1a).

* * * * *

700 Special Standards

* * * * *

705 Advanced Preparation and Special Postage Payment Systems

* * * * *

18.0 Priority Mail Express Open and Distribute and Priority Mail Open and Distribute

* * * * *

18.5 Preparation

* * * * *

18.5.7 Address Label Service Barcode Requirement

[Revise first and third through fifth sentences in the introductory text of 18.5.7 to read as follows:]

An electronic service barcode must include an Intelligent Mail package barcode (IMpb) and Intelligent Mail matrix barcode (IMmb) (eVS approved mailers) symbology for Priority Mail Express Open and Distribute, and the IMpb and IMmb symbology for Priority Mail Open and Distribute in the address label.* * * * * * Priority Mail Express Open and Distribute IMpb and IMmb labels must include service type code “723.” For Priority Mail Open and Distribute, the IMpb and IMmb must include service type code “123.” The human-readable text “USPS SCAN ON ARRIVAL” must appear above the IMpb barcode.* * *

* * * * *

[Add an IMmb in the address block to the left of the delivery address to the label graphics in Exhibits 18.5.8 through 18.5.12.]

* * * * *

Index

* * * * *

I

* * * * *

Intelligent Mail

* * * * *

[Revise the “Intelligent Mail” entry by alphabetically adding the following:] matrix barcode, 204.2.0

* * * * *

Notice 123 (Price List)

[Revise competitive prices as applicable.]

* * * * *

Colleen Hibbert-Kapler,
Attorney, Ethics and Legal Compliance.

[FR Doc. 2024-27463 Filed 11-26-24; 8:45 am]

BILLING CODE 7710-12-P